DEPARTMENT OF CONSUMER PRODUCT SAFETY COMMISSION

Meetings: Commission Agenda and Priorities; Public Hearing

Federal Register Citation of Previous Announcement: Vol. 70, No. 105, Thursday, June 2, 2005, pages 32304-32305.

Previously Announced Time and Date of Meeting:, 10 a.m., Tuesday, June 21, 2005.

Changes in Meeting: The public hearing on Commission Agenda and Priorities for fiscal year 2007 is canceled.

For a recorded message containing the latest agenda information, call (301) 504-7948

For Further Information Contact: Todd A. Stevenson, Office of the Secretary, 4330 East West Highway., Bethesda, MD 20207 (301) 504-7923.

Dated: June 16, 2005.
Todd A. Stevenson,
Secretary.

[FR Doc. 05-12231 Filed 6-21-05; 8:45 am]

BILLING CODE 6355-01-M